FEDERAL COMMUNICATIONS COMMISSION

47 CFR Part 73

[DA 05-1779; MB Docket No. 05-219, RM-11249]

Radio Broadcasting Services; Brawley and Campo, CA

AGENCY: Federal Communications Commission.

ACTION: Proposed rule.

SUMMARY: The Audio Division seeks comment on a petition filed by CCR-Brawley IV, LLC, proposing the downgrade from Channel 241B to Channel 241B1 at Brawley, the reallotment of Channel 241B1 from Brawley to Campo, California, and the modification of Station KSIQ(FM)'s license accordingly. Channel 241B1 can be reallotted to Campo in compliance with the Commission's minimum distance separation with a site restriction of 3.9 kilometers (1.4 miles) north at petitioner's requested site. The coordinates for Channel 241B1 at Campo are 32-38-30 North Latitude and 116-28-05 West Longitude. Since Campo is located within 320 kilometers (199 miles) of the U.S.-Mexican border, concurrence of the Mexican government has been requested. In accordance with the provisions of Section 1.420(i) of the Commission's rules, we shall not accept competing expressions of interest for the use of Channel 241B1 at Campo, California.

DATES: Comments must be filed on or before August 18, 2005, and reply comments on or before September 2, 2005.

ADDRESSES: Federal Communications Commission, 445 Twelfth Street, SW., Washington, DC 20554. In addition to filing comments with the FCC, interested parties should serve Counsel for Petitioner as follows: Howard M. Liberman, Esq., Drinker, Biddle & Reath, LLP, 1500 K Street, NW., Suite 1100, Washington, DC 20005.

FOR FURTHER INFORMATION CONTACT: Sharon P. McDonald, Media Bureau, (202) 418-2180.

SUPPLEMENTARY INFORMATION: This is a summary of the Commission's Notice of Proposed Rule Making, MB Docket No. 05-219, adopted June 23, 2005, and released June 27, 2005. The full text of this Commission decision is available for inspection and copying during normal business hours in the Commission's Reference Center, 445 Twelfth Street SW., Washington, DC 20554. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under California, is amended by removing Channel 241B at Brawley; and by adding Campo, Channel 241B1.

Federal Communications Commission.
John A. Karousos,
Assistant Chief, Audio Division, Media Bureau.

[FR Doc. 05-13465 Filed 7-12-05; 8:45 am]

BILLING CODE 6712-01-P